DEPARTMENT OF HOUSING AND URBAN DEVELOPMENT

24 CFR Parts 91, 92, 570, and 982

[Docket No. FR-6144-F-04]

RIN 2506-AC50

HOME Investment Partnerships Program: Program Updates and Streamlining—Delay of Effective Date

AGENCY: Office of the Secretary, U.S. Department of Housing and Urban Development (HUD).

ACTION: Final rule; delay of effective date.

SUMMARY: On January 6, 2025, HUD published the “HOME Investment Partnerships Program: Program Updates and Streamlining” final rule (HOME Final Rule) in the Federal Register. The HOME Final Rule provides for the rule to take effect on February 5, 2025. Consistent with the President's January 20, 2025, memorandum titled “Regulatory Freeze Pending Review”, this notice announces that HUD is delaying the effective date for the HOME Final Rule until April 20, 2025.

DATES: The effective date for the HOME Final Rule, published at 90 FR 746 (January 6, 2025), is delayed from February 5, 2025, until April 20, 2025.

FOR FURTHER INFORMATION CONTACT: Virginia Sardone, Director, Office of Affordable Housing Programs, Office of Community Planning and Development, U.S. Department of Housing and Urban Development, 451 7th Street SW, Room 7160, Washington, DC 20410; telephone number (202) 708-2684 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

On January 6, 2025 (90 FR 746), HUD published the HOME Final Rule in the Federal Register. The HOME Final Rule revises the HOME Investment Partnerships Program (HOME program) regulations to update, simplify, or streamline requirements, better align the program with other Federal housing programs, and implement recent amendments to the HOME program statute.¹ The HOME Final Rule also includes minor revisions to the regulations for the Community Development Block Grant and Section 8 Housing Choice Voucher Programs consistent with the implementation of the changes to the HOME program. The January 6, 2025, HOME Final Rule provides for the rule to take effect on February 5, 2025.

¹ The HOME program is authorized by title II of the Cranston-Gonzalez National Affordable Housing Act (42 U.S.C. 12721 et seq.) and has been in operation since 1992.

On January 20, 2025, the President issued a memorandum titled “Regulatory Freeze Pending Review” to executive departments and agencies.² The memorandum, among other things, asks executive departments and agencies to consider postponing for 60 days from the date of the memorandum the effective date of rules that have been published in the Federal Register but that have not yet taken effect. This postponement of the effective date of rules that have not yet taken effect is to allow executive departments and agencies time to review any questions of fact, law, and policy that the rules may raise.

² The memorandum is available on the White House's website, https://www.whitehouse.gov/presidential-actions/2025/01/regulatory-freeze-pending-review/.

II. Delayed Effective Date of HOME Final Rule

HUD is delaying the effective date of the HOME Final Rule by 90 days from January 20, 2025. With this delay, the effective date for the HOME Final Rule is now April 20, 2025.

This delay will provide HUD time to review the HOME Final Rule for any questions of fact, law, and policy that the HOME Final Rule may raise, as directed by the memorandum.

Accordingly, the HOME Final Rule published on January 6, 2025, at 90 FR 746 will take effect on April 20, 2025.

Matthew Ammon,
Acting Secretary.

[FR Doc. 2025-02088 Filed 1-31-25; 8:45 am]

BILLING CODE 4210-67-P